DEPARTMENT OF THE TREASURY

Internal Revenue Service

26 CFR Part 1

[TD 9296]

RIN 1545-BD60

Credit for Increasing Research Activities; Correction

AGENCY: Internal Revenue Service (IRS), Treasury.

ACTION: Correcting amendments.

SUMMARY: This document contains corrections to final regulations (TD 9296) that were published in the Federal Register on Thursday, November 9, 2006 (71 FR 65722) relating to the computation and allocation of the credit for increasing research activities for members of a controlled group of corporations or a group of trades or businesses under common control.

DATES: This correction is effective November 9, 2006.

FOR FURTHER INFORMATION CONTACT: Nicole R. Cimino (202) 622-3120 (not a toll-free number).

SUPPLEMENTARY INFORMATION:

Background

The final regulations that are the subject of this correction are under section 41 of the Internal Revenue Code.

Need for Correction

As published, final regulations (TD 9296) contain errors that may prove to be misleading and are in need of clarification.

List of Subjects in 26 CFR Part 1

Income taxes, Reporting and recordkeeping requirements.

Correction of Publication

Accordingly, 26 CFR part 1 is corrected by making the following amendments:

PART 1—INCOME TAXES

Paragraph 1. The authority citation for part 1 continues to read, in part, as follows:

Authority: 26 U.S.C. 7805 * * *

Par. 2. Section 1.41-6 is amended by revising paragraph (j)(2), last sentence to read as follows:

§ 1.41-6 Aggregation of expenditures.

(j) * * *

(2) * * * For taxable years ending on or after May 24, 2005, and before November 9, 2006, see § 1.41-6T(d) as contained in 26 CFR part 1, revised April 1, 2006.

Par. 3. Section 1.41-8 is amended by revising paragraph (b)(5), last sentence to read as follows:

§ 1.41-8 Special rules for taxable years ending on or after November 9, 2006.

(b) * * *

(5) * * * For taxable years ending on or after May 24, 2005, and before November 9, 2006, see § 1.41-8T(b)(5) as contained in 26 CFR part 1, revised April 1, 2006.

LaNita Van Dyke,
Chief, Publications and Regulations Branch, Legal Processing Division, Associate Chief Counsel (Procedure and Administration).

[FR Doc. E6-20732 Filed 12-6-06; 8:45 am]

BILLING CODE 4830-01-P